DEPARTMENT OF ENERGY

Federal Energy Regulatory Commission

Combined Notice of Filings

Take notice that the Commission received the following electric rate filings:

Filings Instituting Proceedings

Docket Numbers: RP13-416-000.

Applicants: Rockies Express Pipeline LLC.

Description: Rate Schedule FTS and ITS correction to RP13-326 to be effective 12/1/2012.

Filed Date: 12/27/12.

Accession Number: 20121227-5139.

Comments Due: 5 p.m. ET 1/8/13.

Docket Numbers: RP13-417-000.

Applicants: Florida Gas Transmission Company, LLC.

Description: Annual Accounting Report filing on 12/28/12 to be effective N/A.

Filed Date: 12/28/12.

Accession Number: 20121228-5045.

Comments Due: 5 p.m. ET 1/9/13.

Docket Numbers: RP13-418-000.

Applicants: Sea Robin Pipeline Company, LLC.

Description: Annual Flowthrough Crediting Mechanism filing on 12/28/12 to be effective N/A.

Filed Date: 12/28/12.

Accession Number: 20121228-5046.

Comments Due: 5 p.m. ET 1/9/13.

Docket Numbers: RP13-419-000.

Applicants: Midwestern Gas Transmission Company.

Description: Update of Part 8, Section 32 to be effective 1/28/2013.

Filed Date: 12/28/12.

Accession Number: 20121228-5047.

Comments Due: 5 p.m. ET 1/9/13.

Docket Numbers: RP13-420-000.

Applicants: Columbia Gas Transmission, LLC.

Description: Environmental Filing 2012 to be effective 2/1/2013.

Filed Date: 12/28/12.

Accession Number: 20121228-5048.

Comments Due: 5 p.m. ET 1/9/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-234-001.

Applicants: Pine Needle LNG Company, LLC.

Description: Pine Needle LNG Company, LLC. submits tariff filing per 154.203: PN Limit Sec 4 Compliance to be effective N/A.

Filed Date: 12/27/12.

Accession Number: 20121227-5055.

Comments Due: 5 p.m. ET 1/8/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated:December 28, 2012.
Nathaniel J. Davis, Sr.,
Deputy Secretary.

[FR Doc. 2012-31680 Filed 1-3-13; 8:45 am]

BILLING CODE 6717-01-P